DEPARTMENT OF THE INTERIOR

Fish and Wildlife Service

50 CFR Part 17

[Docket No. FWS-HQ-ES-2019-0115; FF09E23000 FXES1111090FEDR 212]

RIN 1018-BD84

Endangered and Threatened Wildlife and Plants; Regulations for Designating Critical Habitat

AGENCY: U.S. Fish and Wildlife Service, Interior.

ACTION: Proposed rule; extension of comment period.

SUMMARY: We, the U.S. Fish and Wildlife Service (the “Service”), are extending the comment period on our October 27, 2021, proposed rule to rescind the final rule titled “Endangered and Threatened Wildlife and Plants; Regulations for Designating Critical Habitat” that published on December 18, 2020, and established regulations for exclusions from critical habitat. We are extending the comment period by 15 days.

DATES: The comment period on the proposed rule that published October 27, 2021, at 86 FR 59346, is extended. We will accept comments received or postmarked on or before December 13, 2021.

ADDRESSES: You may submit comments by one of the following methods:

(1) Electronically: Go to the Federal eRulemaking Portal: http://www.regulations.gov. In the Search box, enter the docket number or RIN for this rulemaking (presented above in the document headings). For best results, do not copy and paste either number; instead, type the docket number or RIN into the Search box using hyphens. Then, click on the Search button. On the resulting page, in the Search panel on the left side of the screen, under the Document Type heading, click on the Proposed Rule box to locate this document. You may submit a comment by clicking on “Comment.”

(2) By hard copy: Submit by U.S. mail: Public Comments Processing, Attn: FWS-HQ-ES-2019-0115, U.S. Fish and Wildlife Service, MS: JAO (PRB/3W), 5275 Leesburg Pike, Falls Church, VA 22041-3803.

We request that you send comments only by the methods described above. We will post all comments on http://www.regulations.gov. This generally means that we will post any personal information you provide us (see Public Comments, below, for more information).

FOR FURTHER INFORMATION CONTACT: Bridget Fahey, U.S. Fish and Wildlife Service, Division of Conservation and Classification, 5275 Leesburg Pike, Falls Church, VA 22041-3803, telephone 703/358-2171. If you use a telecommunications device for the deaf, call the Federal Relay Service at 800/877-8339.

SUPPLEMENTARY INFORMATION:

Background

On October 27, 2021, the Service published a proposed rule (86 FR 59346) to rescind the final rule establishing regulations for exclusions from critical habitat that was published on December 18, 2020 (85 FR 82376), and became effective January 19, 2021. The proposed rule opened a 30-day public comment period that was scheduled to close on November 26, 2021. We subsequently received two requests to extend the public comment period. One request was submitted by the Association of Fish and Wildlife Agencies (AFWA), which sought an extension in order to coordinate and incorporate feedback from all its members into its comment. AFWA is a national organization representing State agencies in all 50 States, and the Service finds their request shows good cause to extend the comment period. With this document, we extend the public comment period for an additional 15 days, as specified above in DATES, to provide all interested parties an additional opportunity to comment on the October 27, 2021, proposed rule.

Public Comments

All relevant information will be considered prior to making a final determination regarding the regulations for exclusions from critical habitat. If you already submitted comments or information on the October 27, 2021, proposed rule, please do not resubmit them. Any such comments are incorporated as part of the public record of the rulemaking proceeding, and we will fully consider them in the preparation of any final rule.

You may submit your comments and materials concerning the proposed rule by one of the methods listed in ADDRESSES. Comments must be submitted to https://www.regulations.gov before 11:59 p.m. (Eastern Time) on the date specified in DATES. We will not consider mailed comments that are not postmarked by the date specified in DATES.

We will post all comments on https://www.regulations.gov. This generally means that we will post any personal information you provide us. If you provide personal identifying information in your comment, you may request at the top of your document that we withhold this information from public review. However, we cannot guarantee that we will be able to do so.

Authority

We issue this document under the authority of the Endangered Species Act, as amended (16 U.S.C. 1531 et seq).

Shannon A. Estenoz,
Assistant Secretary for Fish and Wildlife and Parks, Department of the Interior.

[FR Doc. 2021-25774 Filed 11-23-21; 8:45 am]

BILLING CODE 4333-15-P